DEPARTMENT OF ENERGY

Federal Energy Regulatory Commission

[Project No. 13465-000]

Henry County, IA; Notice of Preliminary Permit Application Accepted for Filing and Soliciting Comments, Motions To Intervene, and Competing Applications

July 23, 2009.

On May 12, 2009, Henry County, Iowa filed an application for a preliminary permit, pursuant to section 4(f) of the Federal Power Act, proposing to study the feasibility of the Oakland Mills Dam Project No. 13465, to be located at the existing Oakland Mills Dam, on the Skunk River, in Henry County, Iowa. The sole purpose of a preliminary permit, if issued, is to grant the permit holder priority to file a license application during the permit term. A preliminary permit does not authorize the permit holder to perform any land disturbing activities or otherwise enter upon lands or waters owned by others without the owners' express permission.

The existing Oakland Mills Dam is owned by Henry County and was constructed in 1926 and used for power generation for nearly 40 years before being abandoned. The proposed project would consist of: (1) The existing 7-foot-high Oakland Mills concrete dam quipped with a 250-foot-long spillway, an 8-foot-wide fishway, a 75-foot-wide section consisting of a 23-foot-wide taintor gate, and a 127-foot-wide section that includes the remaining foundation of the original powerhouse; (2) an existing 28-acre impoundment with 62-acre-feet of usable storage; (3) a new 45-foot-wide by 60-foot-long intake conduit connecting to; (4) five new 200-kilowatt (kw) turbine generator units to be located in the Skunk River for a total installed capacity of 1,000 kw; (5) a new 50-foot-long, 12.5-kilovolt transmission line; and (6) appurtenant facilities. The proposed project would operate in run-of-river mode and generate an estimated average annual generation of 7,008,000 kilowatt-hours.

Applicant Contact: John Pullis, Director, Henry County Conservation Department, 2593 Nature Center Drive, Mount Pleasant, Iowa 52641, (319) 986-5067.

FERC Contact: Michael Watts, (202) 502-6123.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “eFiling” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of Commission's Web site at http://www.ferc.gov/docs-filing/elibrary.asp. Enter the docket number (P-13465) in the docket number field to access the document. For assistance, call toll-free 1-866-208-3372.

Kimberly D. Bose,
Secretary.

[FR Doc. E9-18152 Filed 7-29-09; 8:45 am]

BILLING CODE 6717-01-P